INTERNATIONAL TRADE COMMISSION

Sunshine Act Meeting

AGENCY HOLDING THE MEETING: United States International Trade Commission.

TIME AND DATE: April 25, 2001 at 11 a.m.

PLACE: Room 101, 500 E Street S.W., Washington, DC 20436, Telephone: (202) 205-2000.

STATUS: Open to the public.

Matters To Be Considered

1. Agenda for future meeting: none.

2. Minutes.

3. Ratification List.

4. Inv. No. 731-TA-924 (Preliminary) (Mussels from Canada)—briefing and vote. (The Commission is currently scheduled to transmit its determination to the Secretary of Commerce on April 26, 2001; Commissioners' opinions are currently scheduled to be transmitted to the Secretary of Commerce on May 3, 2001.)

5. Inv. No. 731-TA-706 (Review) (Canned Pineapple Fruit from Thailand)—briefing and vote. (The Commission is currently scheduled to transmit its determination and Commissioners' opinions to the Secretary of Commerce on May 8, 2001.)

6. Outstanding action jackets: none.

In accordance with Commission policy, subject matter listed above, not disposed of at the scheduled meeting, may be carried over to the agenda of the following meeting.

Issued: April 17, 2001.
By Order of the Commission.
Donna R. Koehnke,
Secretary.

[FR Doc. 01-10009 Filed 4-18-01; 3:38 pm]

BILLING CODE 7020-02-P